DEPARTMENT OF TRANSPORTATION

Federal Aviation Administration

Advisory Circular (AC) 91-63C, Temporary Flight Restrictions (TFRs)

AGENCY: Federal Aviation Administration (FAA), DOT.

ACTION: Notice of issuance of Advisory Circular 91-63C.

SUMMARY: This action announces the issuance of Advisory Circular (AC) 91-63C, “Temporary Flight Restrictions (TFRs).” This AC has been revised to include information regarding each type of regulatory TFR that may be issued by the FAA. Like all ACs, this revised AC is not regulatory but provides guidance and policies regarding the intent and application of these TFRs. This AC cancels AC 19-63B.

DATES: Advisory Circular 91-63C was issued by the Director of System Operations and Safety, on March 29, 2004, and will be effective on May 20, 2004.

How To Obtain Copies: A paper copy of AC-91-63C may be obtained by writing to the U.S. Department of Transportation, Subsequent Distribution Office, DOT Warehouse, SVC-121.23, Ardmore East Business Center, 3341Q 75th Avenue, Landover, MD 20785, telephone 301-322-4779, or by faxing your request to the warehouse at 301-386-5394. The AC will also be available on the Internet at http://www.faa.gov/ats/ata/ai/index.html.

Issued in Washington, DC, on March 31, 2004.
Sabra Kaulia,
Director of System Operations and Safety.

[FR Doc. 04-8505 Filed 4-16-04; 8:45 am]

BILLING CODE 4910-13-M